DEPARTMENT OF LABOR

Employment and Training Administration

[TA-W-42,346]

Haemer-Wright Tool & Die, Inc., Saegertown, PA; Notice of Termination of Investigation

Pursuant to section 221 of the Trade Act of 1974, as amended, an investigation was initiated on November 1, 2002, in response to a worker petition filed on behalf of workers at Haemer-Wright Tool & Die, Inc., Saegertown, Pennsylvania.

The petitioning group of workers have been determined eligible to apply for Trade Adjustment Assistance under petition number TA-W-40,065. Further investigation in this case would serve no purpose, and the investigation is terminated.

Signed at Washington, DC, this 5th day of December, 2002.
Linda G. Poole,
Certifying Officer, Division of Trade Adjustment Assistance.

[FR Doc. 02-32592 Filed 12-24-02; 8:45 am]

BILLING CODE 4510-30-P